ENVIRONMENTAL PROTECTION AGENCY

40 CFR Parts 3, 51, 60, 63, 70, 123, 142, 145, 162, 233, 257, 258, 271, 281, 403, 501, 745 and 763

[FRL-7109-1]

RIN 2025-AA07

Extension of Comment Period for the Proposed Establishment of Electronic Reporting; Electronic Records Rule

AGENCY: Environmental Protection Agency (EPA).

ACTION: Proposed rule; extension of comment period and supplemental notice.

SUMMARY: The Environmental Protection Agency (EPA) is extending by 60 days the comment period on its proposed rule for establishment of electronic reporting and electronic records. On August 31, 2001, EPA proposed conditions under which EPA would allow submission of electronic documents and maintenance of electronic records to satisfy federal environmental reporting and recordkeeping requirements in EPA's regulations. The comment period is being extended by 60 days to provide the public with additional time to evaluate and comment upon the complex provisions of this proposed rule. As extended by this notice, the comment period will now close on January 28, 2002.

DATES: In order to be considered, written comments on the proposed electronic reporting and electronic records rule must be submitted on or before January 28, 2002. Comments provided electronically will be considered timely if they are submitted electronically by 11:59 p.m. (Eastern time) January 28, 2002.

ADDRESSES: Comments should be addressed to the United States Environmental Protection Agency, Enforcement and Compliance Docket and Information Center, (Mail Code 2201A), Attn: Docket Number EC-2000-007, 1200 Pennsylvania Avenue, NW, Washington, DC 20460. Commenters are also requested to submit an original and 3 copies of their written comments as well as an original and 3 copies of any attachments, enclosures, or other documents referenced in the comments. Commenters who would like EPA to acknowledge receipt of their comments should include a self-addressed, stamped envelope. All comments must be postmarked or delivered by hand by January 28, 2002. No facsimiles (faxes) will be accepted. Public comments and supporting materials are available for viewing in the Enforcement and Compliance Docket and Information Center, located at 1200 Pennsylvania Avenue, NW, (Ariel Rios Building), 2nd Floor, Room 2213, Washington, DC 20460. The documents are available for viewing from 9 a.m. to 4 p.m., Monday through Friday, excluding federal holidays. To review docket materials, it is recommended that the public make an appointment by calling (202) 564-2614 or (202) 564-2119. The public may copy a maximum of 266 pages from any regulatory document at no cost. Additional copies cost $0.15 per page. The rule and some supporting materials are also available electronically on the Internet for public review, using a www browser type, at http://www.epa.gov/.

EPA will also accept comments electronically. Comments should be addressed to the following Internet address: docket.oeca@epa.gov. Electronic comments must be submitted as an ASCII, WordPerfect 5.1/6.1/8 format file and avoid the use of special characters or any form of encryption. Comments in electronic format should also be identified by the docket number EC-2000-007. Electronic comments will be transferred into a paper version for the official record. EPA will attempt to clarify electronic comments if there is an apparent error in transmission.

FOR FURTHER INFORMATION CONTACT: David Schwarz (2823), Office of Environmental Information, U.S. Environmental Protection Agency, 1200 Pennsylvania Avenue, NW, Washington, DC 20460, (202) 260-2710, schwarz.david@epa.gov, or Evi Huffer (2823), Office of Environmental Information, U.S. Environmental Protection Agency, 1200 Pennsylvania Avenue, NW, Washington, DC 20460, (202) 260-8791, huffer.evi@epa.gov.

SUPPLEMENTARY INFORMATION: On August 31, 2001 (66 FR 46162), EPA proposed a rule that would set forth the conditions under which EPA would prospectively allow submission of electronic documents and maintenance of electronic records to satisfy federal environmental reporting and record-keeping requirements in EPA's regulations. As noted in the proposal (66 FR 46163), the rule would affect a broad spectrum of EPA programs (not merely those where specific amendments to the Code of Federal Regulations would be made). While the rule is voluntary because it does not require electronic reporting or record-keeping, for most programs regulated entities that currently maintain electronic records and who wish to continue to do so after the rule takes effect would be required to meet the record-keeping criteria in subpart D. As currently defined in the proposal, the term electronic record is broad in scope. Given the breadth and complexity of the rule, several commenters have requested additional time to evaluate and comment upon the proposed rule. EPA greatly values the input provided by the regulated community as well as the input from States that administer EPA programs. Accordingly, the comment period is being extended by 60 days to provide additional time to evaluate and comment upon the proposed rule. EPA particularly seeks comment on whether or not the record-keeping provisions in subpart D of the proposed rule should be withdrawn and addressed in a separate rulemaking. EPA also seeks comment on revisions to the record-keeping criteria or other provisions of the proposed rule that would make it easier for those in the regulated community who already maintain electronic records to continue to do so after the rule takes effect.

The comment period announced in the proposed rule notice was scheduled to end on November 29, 2001. Today's notice extends the comment period on the proposed electronic reporting and record-keeping rule by an additional 60 days. EPA encourages the interested public to submit their comments as soon as possible, although all comments received in accordance with this notice will be considered.

During the extended comment period, the Agency will conduct additional stakeholder outreach that will likely include additional public meetings. Meeting dates and locations will be announced through Federal Register notices in the upcoming weeks, as well as on EPA's web site at www.epa.gov/cdx.

Margaret N. Schneider,
Acting Assistant Administrator, Office of Environmental Information.

[FR Doc. 01-29551 Filed 11-27-01; 8:45 am]

BILLING CODE 6560-50-P